INTERNATIONAL TRADE COMMISSION

[Investigation Nos. 731-TA-1588-1590 (Final)]

Certain Preserved Mushrooms From the Netherlands, Poland, and Spain; Supplemental Schedule for the Final Phase of Anti-Dumping Duty Investigations

AGENCY: United States International Trade Commission.

ACTION: Notice.

DATES: March 27, 2023.

FOR FURTHER INFORMATION CONTACT: Kristina Lara ((202) 205-3386), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective September 15, 2022, the Commission established a general schedule for the conduct of the final phase of its antidumping duty investigations on certain preserved mushrooms from France, the Netherlands, Poland, and Spain (87 FR 57717, September 21, 2022), following a preliminary determination by the U.S. Department of Commerce (“Commerce”) that imports of certain preserved mushrooms from France were being sold at less than fair value (“LTFV”) (87 FR 55997, September 13, 2022). Notice of the scheduling of the final phase of the Commission's investigations and of a public hearing held in connection therewith was given by posting copies of the notice in the Office of the Secretary, U.S. International Trade Commission, Washington, DC, and by publishing the notice in the Federal Register on September 21, 2022 (87 FR 57717). The Commission conducted its hearing on November 17, 2022. All persons who requested the opportunity were permitted to participate.

Commerce issued a final affirmative antidumping duty determination with respect to certain preserved mushrooms from France (87 FR 72963, November 28, 2022). The Commission subsequently issued its final determination that an industry in the United States was materially injured by reason of imports of certain preserved mushrooms from France provided for in subheading 2003.10.01 of the Harmonized Tariff Schedule of the United States (“HTSUS”) (88 FR 2971, January 18, 2023).

Commerce issued final affirmative antidumping duty determinations with respect to imports of certain preserved mushrooms from the Netherlands, Poland, and Spain (88 FR 18115, 88 FR 18118, and 88 FR 18120, March 27, 2023). Accordingly, the Commission currently is issuing a supplemental schedule for its antidumping duty investigations on imports of certain preserved mushrooms from the Netherlands, Poland, and Spain.

This supplemental schedule is as follows: the deadline for filing supplemental party comments on Commerce's final antidumping duty determinations is April 7, 2023. Supplemental party comments may address only Commerce's final antidumping duty determinations regarding imports of certain preserved mushrooms from the Netherlands, Poland, and Spain. These supplemental final comments may not contain new factual information and may not exceed five (5) pages in length. The supplemental staff report in the final phase of the current investigations will be placed in the nonpublic record on April 20, and a public version will be issued thereafter.

For further information concerning this proceeding see the Commission's notices cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Please note the Secretary's Office will accept only electronic filings during this time. Filings must be made through the Commission's Electronic Document Information System (EDIS, https://edis.usitc.gov.) No in-person paper-based filings or paper copies of any electronic filings will be accepted until further notice.

Authority: This proceeding is being conducted under authority of title VII of the Tariff Act of 1930; this notice is published pursuant to section 207.21 of the Commission's rules.

By order of the Commission.
Issued: March 30, 2023.
Lisa Barton,
Secretary to the Commission.

[FR Doc. 2023-07022 Filed 4-4-23; 8:45 am]

BILLING CODE 7020-02-P